INTERNATIONAL TRADE COMMISSION

[Investigation No. 337-TA-1042]

Certain Hybrid Electric Vehicles and Components Thereof; Commission Decision Not To Review an Initial Determination Granting a Joint Motion To Terminate the Investigation Based on Settlement and Patent License Agreements; Termination of the Investigation

AGENCY: U.S. International Trade Commission.

ACTION: Notice.

SUMMARY: Notice is hereby given that the U.S. International Trade Commission has determined not to review an initial determination (“ID”) (Order No. 36) of the presiding Administrative Law Judge (“ALJ”) granting a joint motion to terminate the investigation based on settlement and patent license agreements. The investigation is terminated.

FOR FURTHER INFORMATION CONTACT: Houda Morad, Office of the General Counsel, U.S. International Trade Commission, 500 E Street SW, Washington, DC 20436, telephone (202) 708-4716. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted Investigation No. 337-TA-1042 on March 10, 2017, based on a complaint filed by Paice LLC and Abell Foundation, Inc. of Baltimore, Maryland. See 82 FR 13363-64 (Mar. 10, 2017). The complaint, as supplemented, alleges violations of section 337 of the Tariff Act of 1930, as amended (19 U.S.C. 1337), based upon the importation into the United States, the sale for importation, and the sale within the United States after importation of certain hybrid electric vehicles and components thereof by reason of infringement of certain claims of U.S. Patent No. 7,104,347; U.S. Patent No. 7,237,634; U.S. Patent No. 7,455,134; U.S. Patent No. 7,559,388; and U.S. Patent No. 8,214,097. See id. The notice of investigation named Ford Motor Company of Dearborn, Michigan as a respondent in this investigation. See id. The Office of Unfair Import Investigations is not a party to this investigation. See id.

On April 3, 2018, the parties filed a joint motion to terminate the investigation based on settlement and patent license agreements (“the Agreements”). On April 9, 2018, the ALJ issued the subject ID (Order No. 36) granting the parties' joint motion. The ID finds that: “[t]he [joint] motion complies with the Commission Rules.” See ID at 1. In particular, the ID notes that “[p]ursuant to Commission Rule 210.21(b)(1)[, 19 CFR 210.21(b)(1)], the movants state: `There are no other agreements, written or oral, express or implied, between [the parties] concerning the subject matter of this Investigation.' ” See ID at 1-2. Furthermore, the ID “does not find any evidence” indicating that terminating the investigation would be “contrary” to the public interest. See ID at 2 (citing 19 CFR 210.50(b)(2)).

No petition for review of the ID was filed. The Commission has determined not to review the ID.

The authority for the Commission's determination is contained in section 337 of the Tariff Act of 1930, as amended (19 U.S.C. 1337), and in part 210 of the Commission's Rules of Practice and Procedure (19 CFR part 210).

By order of the Commission.
Issued: April 26, 2018.
Lisa Barton,
Secretary to the Commission.

[FR Doc. 2018-09145 Filed 4-30-18; 8:45 am]

BILLING CODE 7020-02-P